NUCLEAR REGULATORY COMMISSION

10 CFR Part 50

[NRC-2018-0290]

RIN 3150-AK22

American Society of Mechanical Engineers 2019-2020 Code Editions; Correction

AGENCY: Nuclear Regulatory Commission.

ACTION: Proposed rule; correction.

SUMMARY: The U.S. Nuclear Regulatory Commission (NRC) is correcting a notice that was published in the Federal Register on March 26, 2021, regarding its proposed amendment to the regulations to incorporate by reference the 2019 Editions of the American Society of Mechanical Engineers Boiler and Pressure Vessel Code and the 2020 Edition of the American Society of Mechanical Engineers Operation and Maintenance of Nuclear Power Plants, Division 1: OM Code: Section IST, for nuclear power plants. This action is necessary to correct several typographical errors.

DATES: The correction takes effect on May 12, 2021.

ADDRESSES: You may submit comments by any of the following methods (unless this document describes a different method for submitting comments on a specific subject):

• Federal Rulemaking website: Go to https://www.regulations.gov and search for Docket ID NRC-2018-0290. Address questions about NRC dockets to Dawn Forder; telephone: 301-415-3407; email: Dawn.Forder@nrc.gov. For technical questions, contact the individuals listed in the FOR FURTHER INFORMATION CONTACT section of this document.

• NRC's Agencywide Documents Access and Management System (ADAMS): You may obtain publicly-available documents online in the ADAMS Public Documents collection at https://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. For the convenience of the reader, instructions about obtaining materials referenced in this document are provided in the “Availability of Documents” section.

• Attention: The PDR, where you may examine and order copies of public documents, is currently closed. You may submit your request to the PDR via email at pdr.resource@nrc.gov or call 1-800-397-4209 between 8:00 a.m. and 4:00 p.m. (EST), Monday through Friday, except Federal holidays.

FOR FURTHER INFORMATION CONTACT: Victoria V. Huckabay, Office of Nuclear Material Safety and Safeguards, telephone: 301-415-5183, email: Victoria.Huckabay@nrc.gov; or Keith Hoffman, Office of Nuclear Reactor Regulation, telephone: 301-415-1294, email: Keith.Hoffman@nrc.gov. Both are staff of the U.S. Nuclear Regulatory Commission, Washington, DC 20555-0001.

SUPPLEMENTARY INFORMATION: In the Federal Register (FR) on March 26, 2021, at 86 FR 16087 in FR Doc. 2021-06085, the following corrections are made:

1. On page 16094, in the second column, under the heading Section 50.55a(b)(2)(xxxii) Section XI Condition: Summary Report Submittal, in the first two sentences, the two occurrences of the phrase “repair replacement activities” are corrected to read “repair/replacement activities.”

2. On page 16102, in the third column, under the heading Overall Backfitting Considerations: Section XI of the ASME BPV Code and the ASME OM Code, in the first paragraph, the last sentence is corrected to read “In this rulemaking, the NRC's proposal to eliminate some older Section XI editions and addenda from the regulations would not be a backfit because the editions and addenda of codes being removed are no longer in use or available for use by licensees.”

3. On page 16103, in the second column, under the heading ASME BPV Code, Section XI, item 1, the first sentence is corrected to read “Revise § 50.55a(a)(1)(ii) to remove the incorporation by reference of the 1975 Winter Addenda, 1976 Summer Addenda, 1976 Winter Addenda, and the Division 1 1977 Edition through 1994 Addenda and 1998 Edition through 2000 Addenda because they incorporate by reference older editions and addenda of Section XI that are no longer in use or available for use by licensees.”

4. On page 16110, in the third column, in the middle of the column, paragraph (b)(2)(xviii)(D)(1), is corrected to read “(1) As an alternative to Note (c) in Table VII-4110-1 of ASME BPV Code, Section XI, 2010 Edition, the 250 hours of Level I experience time may be reduced to 175 hours, if the experience time includes a minimum of 125 hours of field experience and 50 hours of laboratory practice beyond the requirements for training in accordance with Appendix VII Subarticle 4220, provided those practice hours are dedicated to the Level I or Level II skill areas as described in ANSI/ASNT CP-189.”

5. On page 16111, in the second column, in the middle of the column, in paragraph (b)(2)(xxv)(A), Mitigation of defects by modification: First person, the paragraph heading is corrected to read “Mitigation of defects by modification: First provision”.

6. On page 16112, in the second column, near the bottom of the column, in paragraph (b)(2)(xliii), Section XI condition: Section XI Condition: Regulatory Submittal Requirements, the paragraph heading is corrected to read “Section XI Condition: Regulatory Submittal Requirements”.

Dated: May 5, 2021.
For the Nuclear Regulatory Commission.
Cindy K. Bladey,
Chief, Regulatory Analysis and Rulemaking Support Branch, Division of Rulemaking, Environmental, and Financial Support, Office of Nuclear Material Safety and Safeguards.

[FR Doc. 2021-09997 Filed 5-11-21; 8:45 am]

BILLING CODE 7590-01-P